DEPARTMENT OF ENERGY

Federal Energy Regulatory Commission

Combined Notice of Filings #1

Take notice that the Commission received the following electric corporate filings:

Docket Numbers: EC15-68-000.

Applicants: Samchully Power & Utilities 1 LLC.

Description: Application for Authorization for Disposition of Jurisdictional Facilities and Request for Expedited Action of Samchully Power & Utilities 1 LLC.

Filed Date: 2/5/15.

Accession Number: 20150205-5223.

Comments Due: 5 p.m. ET 2/26/15.

Take notice that the Commission received the following electric rate filings:

Docket Numbers: ER13-1605-000.

Applicants: NV Energy, Inc.

Description: eTariff filing per 35.19a(b): NVE Refund Report to be effective N/A.

Filed Date: 2/6/15.

Accession Number: 20150206-5170.

Comments Due: 5 p.m. ET 2/27/15.

Docket Numbers: ER15-523-001.

Applicants: Duke Energy Progress, Inc., Duke Energy Florida, Inc., Duke Energy Carolinas, LLC.

Description: Tariff Amendment per 35.17(b): Answer to Deficiency Letter ER15-523 to be effective 4/1/2015.

Filed Date: 2/6/15.

Accession Number: 20150206-5111.

Comments Due: 5 p.m. ET 2/27/15.

Docket Numbers: ER15-611-001.

Applicants: Midcontinent Independent System Operator, Inc.

Description: Tariff Amendment per 35.17(b): 2015-02-06_SA 1926 Amended METC-Consumers 5th Rev. D-TIA to be effective 1/1/2015.

Filed Date: 2/6/15.

Accession Number: 20150206-5213.

Comments Due: 5 p.m. ET 2/27/15.

Docket Numbers: ER15-631-001.

Applicants: Crawfordsville Energy, LLC.

Description: Tariff Amendment per 35.17(b): Amended Application for Market Based Rate to be effective 4/6/2015.

Filed Date: 2/6/15.

Accession Number: 20150206-5048.

Comments Due: 5 p.m. ET 2/27/15.

Docket Numbers: ER15-992-000.

Applicants: PJM Interconnection, L.L.C.

Description: § 205(d) rate filing per 35.13(a)(2)(iii): Service Agreement No. 4076; Queue No. Z1-098 to be effective 1/6/2015.

Filed Date: 2/5/15.

Accession Number: 20150205-5130.

Comments Due: 5 p.m. ET 2/26/15.

Docket Numbers: ER15-993-000.

Applicants: PJM Interconnection, L.L.C.

Description: Information Filing of List of Immediate-need Reliability Projects submitted on behalf of PJM Interconnection, L.L.C.

Filed Date: 1/30/15.

Accession Number: 20150130-5457.

Comments Due: 5 p.m. ET 2/20/15.

Docket Numbers: ER15-994-000.

Applicants: PJM Interconnection, L.L.C.

Description: Compliance filing per 35: Revisions to OATT 13.7 per Order 890—Unreserved Use Penalties to be effective 2/5/2015.

Filed Date: 2/5/15.

Accession Number: 20150205-5178.

Comments Due: 5 p.m. ET 2/26/15.

Docket Numbers: ER15-995-000.

Applicants: Verso Androscoggin LLC.

Description: Compliance filing per 35: Amendment to Market-Based Rate Tariff to be effective 4/6/201.

Filed Date: 2/5/15.

Accession Number: 20150205-5189.

Comments Due: 5 p.m. ET 2/26/15.

Docket Numbers: ER15-996-000.

Applicants: Verso Androscoggin Power LLC.

Description: Compliance filing per 35: Amendment to Market-Based Rate Tariff to be effective 4/6/2015.

Filed Date: 2/5/15.

Accession Number: 20150205-5190.

Comments Due: 5 p.m. ET 2/26/15.

Docket Numbers: ER15-997-000.

Applicants: Verso Maine Energy LLC.

Description: Compliance filing per 35: Amendment to Market-Based Tariff to be effective 4/6/2015.

Filed Date: 2/5/15.

Accession Number: 20150205-5205.

Comments Due: 5 p.m. ET 2/26/15.

Docket Numbers: ER15-998-000.

Applicants: Southwestern Public Service Company.

Description: § 205(d) rate filing per 35.13(a)(2)(iii): 2015-2-6_SPS-GSEC-NPEC-Chaparral-675-NOC-Filing to be effective 1/14/2015.

Filed Date: 2/6/15.

Accession Number: 20150206-5049.

Comments Due: 5 p.m. ET 2/27/15.

Docket Numbers: ER15-999-000.

Applicants: Luke Paper Company.

Description: Compliance filing per 35: Amendment to Market-Based Rate Tariff to be effective 4/7/2015.

Filed Date: 2/6/15.

Accession Number: 20150206-5102.

Comments Due: 5 p.m. ET 2/27/15.

Docket Numbers: ER15-1000-000.

Applicants: NewPage Energy Services, LLC.

Description: Compliance filing per 35: Amendment to Market-Based Rate Tariff to be effective 4/7/2015.

Filed Date: 2/6/15.

Accession Number: 20150206-5114.

Comments Due: 5 p.m. ET 2/27/15.

Docket Numbers: ER15-1001-000.

Applicants: Tucson Electric Power Company.

Description: § 205(d) rate filing per 35.13(a)(2)(iii): Concurrence to San Juan Project Participation Agreement to be effective 7/1/2014.

Filed Date: 2/6/15.

Accession Number: 20150206-5125.

Comments Due: 5 p.m. ET 2/27/15.

Docket Numbers: ER15-1002-000.

Applicants: Southern California Edison Company.

Description: § 205(d) rate filing per 35.13(a)(2)(iii): LGIA for Willow Springs Solar, LLC to be effective 2/7/2015.

Filed Date: 2/6/15.

Accession Number: 20150206-5127.

Comments Due: 5 p.m. ET 2/27/15.

Docket Numbers: ER15-1003-000.

Applicants: Consolidated Water Power Company.

Description: Compliance filing per 35: Amendment to Market-Based Rate Tariff to be effective 4/7/2015.

Filed Date: 2/6/15.

Accession Number: 20150206-5130.

Comments Due: 5 p.m. ET 2/27/15.

Docket Numbers: ER15-1004-000.

Applicants: ITC Midwest LLC.

Description: § 205(d) rate filing per 35.13(a)(2)(iii): CIAC Agreement with Garden Wind to be effective 4/7/2015.

Filed Date: 2/6/15.

Accession Number: 20150206-5136.

Comments Due: 5 p.m. ET 2/27/15.

Docket Numbers: ER15-1005-000.

Applicants: Consolidated Water Power Company.

Description: Compliance filing per 35: Amendment to Market-Based Rate Tariff to be effective 4/7/2015.

Filed Date: 2/6/15.

Accession Number: 20150206-5137.

Comments Due: 5 p.m. ET 2/27/15.

Docket Numbers: ER15-1006-000.

Applicants: ITC Midwest LLC.

Description: § 205(d) rate filing per 35.13(a)(2)(iii): CIAC Agreement with Story County Wind to be effective 4/6/2015.

Filed Date: 2/6/15.

Accession Number: 20150206-5138.

Comments Due: 5 p.m. ET 2/27/15.

Docket Numbers: ER15-1007-000.

Applicants: Escanaba Paper Company.

Description: Compliance filing per 35: Amendment to Market-Based Rate Tariff to be effective 4/7/2015.

Filed Date: 2/6/15.

Accession Number: 20150206-5193.

Comments Due: 5 p.m. ET 2/27/15.

Docket Numbers: ER15-1008-000.

Applicants: AEP Generation Resources Inc.

Description: § 205(d) rate filing per 35.13(a)(2)(iii): Wheeling Power Supply Agreement Cancellation to be effective 1/31/2015.

Filed Date: 2/6/15.

Accession Number: 20150206-5194.

Comments Due: 5 p.m. ET 2/27/15.

Docket Numbers: ER15-1009-000.

Applicants: ISO New England Inc., New England Power Pool Participants Committee.

Description: § 205(d) rate filing per 35.13(a)(2)(iii): MR1 Rev Forward Reserve Obligation Charge in Forward Reserve Market to be effective 6/1/2015.

Filed Date: 2/6/15.

Accession Number: 20150206-5195.

Comments Due: 5 p.m. ET 2/27/15.

Docket Numbers: ER15-1010-000.

Applicants: New York Independent System Operator, Inc.

Description: § 205(d) rate filing per 35.13(a)(2)(iii): NYISO 205 filing tariff revision Regulation Movement Multiplier provision to be effective 4/7/2015.

Filed Date: 2/6/15.

Accession Number: 20150206-5214.

Comments Due: 5 p.m. ET 2/27/15.

Take notice that the Commission received the following electric reliability filings:

Docket Numbers: RD15-3-000.

Applicants: North American Electric Reliability Corp.

Description: Petition of the North American Electric Reliability Corporation for Approval of Proposed Reliability Standards PRC-004-2.1(i)a, PRC-004-4, PRC-005-2(i), PRC-005-3(i), and VAR-002-4.

Filed Date: 2/6/15.

Accession Number: 20150206-5169.

Comments Due: 5 p.m. ET 3/9/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 6, 2015.
Nathaniel J. Davis, Sr.,
Deputy Secretary.

[FR Doc. 2015-02936 Filed 2-11-15; 8:45 am]

BILLING CODE 6717-01-P